DEPARTMENT OF COMMERCE

National Oceanic and Atmospheric Administration

RIN 0648-XE147

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet September 14 through September 17, 2015.

DATES: The meeting will be held on Monday, September 14 through Thursday, September 17, 2015, from 9 a.m. to 5 p.m.

ADDRESSES: The meeting will be held at the Alaska Fishery Science Center Traynor Room, 7600 Sand Point Way NE., Building 4, Seattle, WA 98115. Webex information will be posted on the agenda at http://www.npfmc.org/

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Monday, September 14, 2015 Through Thursday, September 17, 2015

The agenda includes final overfishing limits and acceptable biological catch limits for snow crab, Tanner crab, Bristol Bay red king crab, Saint Matthew blue king crab, Pribilof Island blue king crab, Pribilof Island red king crab; model recommendations for Norton Sound red king crab, Aleutian Islands golden king crab; discussion of a generalized model application to Bristol Bay red king crab; review of an Exempted Fishing Permit for a closure in Bristol Bay; Essential Fish Halibut five year review; and final Stock Assessment and Fishery Evaluation (SAFE) report for Bearing Sea and Aleutian Islands Crab. The Agenda is subject to change, and the latest version will be posted at http://www.npfmc.org/

Special Accommodations

These meetings are physically accessible to people with disabilities. Requests for sign language interpretation or other auxiliary aids should be directed to Shannon Gleason at (907) 271-2809 at least 7 working days prior to the meeting date.

Dated: August 25, 2015.
Tracey L. Thompson,
Acting Deputy Director, Office of Sustainable Fisheries, National Marine Fisheries Service.

[FR Doc. 2015-21352 Filed 8-27-15; 8:45 am]

BILLING CODE 3510-22-P